SECURITIES AND EXCHANGE COMMISSION

In the Matter of WebXU, Inc., File No. 500-1; Order of Suspension of Trading

June 5, 2014.

It appears to the Securities and Exchange Commission that there is a lack of current and accurate information concerning the securities of WebXU, Inc. because of questions regarding the accuracy of publicly available information about the company's finances.

The Commission is of the opinion that the public interest and the protection of investors require a suspension of trading in the securities of the above-listed company.

Therefore, it is ordered, pursuant to Section 12(k) of the Securities Exchange Act of 1934, that trading in the securities of the above-listed company is suspended for the period from 9:30 a.m. EDT on June 5, 2014, through 11:59 p.m. EDT on June 18, 2014.

By the Commission.
Jill M. Peterson,
Assistant Secretary.

[FR Doc. 2014-13478 Filed 6-5-14; 11:15 am]

BILLING CODE 8011-01-P